FEDERAL FINANCIAL INSTITUTIONS EXAMINATION COUNCIL

[Docket No. AS12-11]

Appraisal Subcommittee Notice of Meeting

AGENCY: Appraisal Subcommittee of the Federal Financial Institutions Examination Council.

ACTION: Notice of Meeting.

Description: In accordance with Section 1104 (b) of Title XI of the Financial Institutions Reform, Recovery, and Enforcement Act of 1989, as amended, notice is hereby given that the Appraisal Subcommittee (ASC) will meet in closed session:

Location: OCC—250 E Street SW., Room 8C, Washington, DC 20219.

Date: June 13, 2012.

Time: Immediately following the ASC open session.

Status: Closed.

Matters To Be Considered:

May 9, 2012 minutes—Closed Session.

Dated: June 1, 2012.
James R. Park,
Executive Director.

[FR Doc. 2012-13661 Filed 6-5-12; 8:45 am]

BILLING CODE P